ENVIRONMENTAL PROTECTION AGENCY

40 CFR Part 80

[FRL-7119-1]

RIN 2060-AJ79

Regulation of Fuel and Fuel Additives: Reformulated Gasoline Terminal Receipt Date

AGENCY: Environmental Protection Agency (EPA).

ACTION: Proposed rule; correction.

SUMMARY: This document corrects the preamble to a proposed rule published in the Federal Register of December 3, 2001, regarding establishment of a new compliance date for the reformulated gasoline program. This correction clarifies when and where a public hearing would be held if a hearing is requested.

FOR FURTHER INFORMATION CONTACT: For further information about this correction, contact Chris McKenna, Chemical Engineer, Office of Transportation and Air Quality, Transportation and Regional Programs Division, at (202) 564-9037 or mckenna.chris@epa.gov.

Correction

In proposed rule FR Doc. 01-29777, beginning on page 60163 in the issue of December 3, 2001, make the following correction in the Dates section. On page 60163 in the 2nd column, replace the text,

“If a hearing is requested within 20 days of the date of publication of this document in the Federal Register, a hearing will be held on December 24, 2001 at the location indicated in the ADDRESSES section below.”

with the following text:

“If a hearing is requested no later than December 24, 2001, a hearing will be held at a time and place to be published in the Federal Register.”

Dated: December 11, 2001.
Robert D. Brenner,
Acting Assistant Administrator, Office of Air and Radiation.

[FR Doc. 01-31179 Filed 12-17-01; 8:45 am]

BILLING CODE 6560-50-P